ENVIRONMENTAL PROTECTION AGENCY

[EPA-R07-OW-2021-0690; FRL-9548-01-R7]

Underground Injection Control Program; No Migration Petition Reissuance for Exemption From Hazardous Waste Disposal Restrictions of the Resource Conservation and Recovery Act Class I Hazardous Waste Injection; Occidental Chemical Corporation Wichita, Kansas

AGENCY: Environmental Protection Agency (EPA).

ACTION: Notice of final decision on no migration petition reissuance.

SUMMARY: Notice is hereby given that the Environmental Protection Agency (EPA) has approved the reissuance of an existing no migration petition (petition) by Occidental Chemical Corporation (OxyChem) under the 1984 Hazardous and Solid Waste Amendments to the Resource Conservation and Recovery Act. OxyChem has adequately demonstrated to the satisfaction of EPA by the petition reissuance application and supporting documentation that, to a reasonable degree of certainty, there will be no migration of hazardous constituents from the injection zone for as long as the waste remains hazardous.

FOR FURTHER INFORMATION CONTACT: Ben Meissner, Lead Petition Reviewer, Water Division—Groundwater and Drinking Water Branch, Environmental Protection Agency, 11201 Renner Boulevard, Lenexa, Kansas 66219; telephone number: 913-551-7992; fax number: 913-551-9992; email address: meissner.benjamin@epa.gov.

SUPPLEMENTARY INFORMATION:

I. Background

The existing petition allows for the subsurface disposal by OxyChem of specific restricted wastes via Class I hazardous waste injection wells at OxyChem's Wichita, Kansas facility and was approved by EPA with an effective date of October 24, 2008. In its renewal application, OxyChem requested that the petition reissuance include six Class I wells which would cover the five existing Class I injection wells in addition to a Class I well yet to be drilled. This action results in no change to the total volume of fluids to be injected. This final decision allows the underground injection by OxyChem of the specific wastes identified in the petition reissuance into injection wells Number 3, 8, 9 10, 11 and proposed number 14 at the Wichita, Kansas facility through January 2, 2040, unless EPA moves to terminate this exemption pursuant to 40 CFR 148.24. Included in this approval is the stipulation that OxyChem acquires and continues to maintain an approved permit from the Kansas Department of Health and Environment for all Class I injection wells. A public notice concerning the Agency's proposed action was issued on October 15, 2021, and the public comment period closed on December 3, 2021. In addition to soliciting written comments regarding the Agency's proposed approval, EPA conducted a virtual public availability session and a virtual formal public hearing on November 18, 2021. No comments were received during the comment period. This decision constitutes a final Agency action. There is no further administrative process to appeal this decision. This decision may be reviewed/appealed in compliance with the Administrative Procedure Act.

II. Electronic Access

You may access this Federal Register document electronically from the Government Printing Office under the “Federal Register” listings at FDSys (http://www.gpo.gov/fdsys/browse/collection.action?collectionCode=FR).

Dated: March 3, 2022.
Edward H. Chu,
Acting Regional Administrator, Region 7.

[FR Doc. 2022-05130 Filed 3-10-22; 8:45 am]

BILLING CODE 6560-50-P